DEPARTMENT OF LABOR

Employment and Training Administration

[TA-W-91,090]

AK Steel Corporation Ashland Works, a Subsidiary of AK Steel Holding Corporation Including Workers Whose Wages Were Reported Through RMI International and ESM Group Inc., Including On-Site Leased Workers From Manpower, Inc.; Atlas Industrial Contractors, Inc.; OMI Refractories, LLC DBA Bisco Refractories; Early Construction Company; Enerfab, Inc.; IBM Global Services; Marquis Terminal; Maxim Crane Works; May Contracting Inc.; Minteq International; Phoenix Teq—Ashland, LLC; Premise Health; Superior Environmental Solutions, Inc.; Stein, Inc., And Vesuvius USA Corporation Ashland, Kentucky; Amended Certification Regarding Eligibility To Apply for Worker Adjustment Assistance

In accordance with Section 223 of the Trade Act of 1974, as amended (“Act”), 19 U.S.C. 2273, the Department of Labor issued a Certification of Eligibility to Apply for Worker Adjustment Assistance on March 24, 2016, applicable to workers of AK Steel Corporation, Ashland Works, a subsidiary of AK Steel Holding Corporation, including workers whose wages were reported through RMI International and ESM Group Inc., including on-site leased workers from Manpower, Inc., Ashland, Kentucky. The Department's notice of determination was published in the Federal Register on April 26, 2016 (81 FR 24648).

At the request of the Commonwealth of Kentucky, the Department reviewed the certification for workers of the subject firm. The workers were engaged in activities related to the production of carbon steel slabs.

The company reports that workers leased from Atlas Industrial Contractors, Inc.; OMI Refractories, LLC dba Bisco Refractories; Early Construction Company; Enerfab, Inc.; IBM Global Services; Marquis Terminal; Maxim Crane Works; May Contracting Inc.; Minteq International; Phoenix TEQ—Ashland, LLC; Premise Health; Superior Environmental Solutions, Inc.; Stein, Inc., and Vesuvius USA Corporation were employed on-site at the Ashland, Kentucky location of AK Steel Corporation, Ashland Works, a subsidiary of AK Steel Holding Corporation, Ashland, Kentucky. The Department has determined that these workers were sufficiently under the control of the subject firm to be considered leased workers.

Based on these findings, the Department is amending this certification to include workers leased from Atlas Industrial Contractors, Inc.; OMI Refractories, LLC dba Bisco Refractories; Early Construction Company; Enerfab, Inc.; IBM Global Services; Marquis Terminal; Maxim Crane Works; May Contracting Inc.; Minteq International; Phoenix TEQ—Ashland, LLC; Premise Health; Superior Environmental Solutions, Inc.; Stein, Inc., and Vesuvius USA Corporation working on-site at the Ashland, Kentucky location of AK Steel Corporation, Ashland Works, a subsidiary of AK Steel Holding Corporation, Ashland, Kentucky.

The amended notice applicable to TA-W-91,090 is hereby issued as follows:

All workers of AK Steel Corporation, Ashland Works, a subsidiary of AK Steel Holding Corporation, including workers whose wages were reported through RMI International and ESM Group Inc., including on-site leased workers from Manpower, Inc.; Atlas Industrial Contractors, Inc.; OMI Refractories, LLC dba Bisco Refractories; Early Construction Company; Enerfab, Inc.; IBM Global Services; Marquis Terminal; Maxim Crane Works; May Contracting Inc.; Minteq International; Phoenix TEQ—Ashland, LLC; Premise Health; Superior Environmental Solutions, Inc.; Stein, Inc., and Vesuvius USA Corporation, Ashland, Kentucky, who became totally or partially separated from employment on or after October 26, 2014, through March 24, 2018, and all workers in the group threatened with total or partial separation from employment on the date of certification through two years from the date of certification, are eligible to apply for adjustment assistance under Chapter 2 of Title II of the Trade Act of 1974, as amended.

Signed in Washington, DC, this 30th day of June, 2016.
Hope D. Kinglock,
Certifying Officer, Office of Trade Adjustment Assistance.

[FR Doc. 2016-16832 Filed 7-15-16; 8:45 am]

BILLING CODE P